CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed revision of the CNCS Forbearance Request for National Service Form to update the burden hour information. This form is used by AmeriCorps members to request forbearances based on their AmeriCorps service, by schools and lenders to verify their eligibility, and by both parties to satisfy certain legal requirements.

Copies of the information collection request can be obtained by contacting the office listed in the addresses section of this notice.

DATES: Written comments must be submitted to the individual and office listed in the ADDRESSES section December 24, 2012.

ADDRESSES: You may submit comments, identified by the title of the information collection activity, by any of the following methods:

(1) By mail sent to: Corporation for National and Community Service, Attn.: Bruce Kellogg, 3809C, 1201 New York Avenue NW., Washington, DC 20525.

(2) By hand delivery or by courier to the CNCS mailroom at Room 8100 at the mail address given in paragraph (1) above, between 9:00 a.m. and 4:00 p.m. Eastern Time, Monday through Friday, except Federal holidays.

(3) By fax to: (202) 606-3492, Attn.: Bruce Kellogg

(4) Electronically through www.regulations.gov. Individuals who use a telecommunications device for the deaf (TTY-TDD) may call (800) 833-3722 between 8:00 a.m. and 8:00 p.m. Eastern Time, Monday through Friday.

FOR FURTHER INFORMATION CONTACT: Bruce Kellogg, (202) 606-6954, or by email at bkellogg@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

With this form AmeriCorps members request forbearances based on their AmeriCorps service, schools and lenders verify their eligibility, and both parties certify certain legal requirements. These procedures are increasingly performed online.

Current Action

CNCS seeks only to revise the burden hour information to reflect the increased electronic volume of this form. The information collection will otherwise be used in the same manner as the existing application. CNCS also seeks to continue using the current application until the revised application is approved by OMB. The current application is due to expire on October 31, 2014.

Type of Review: Renewal.

Agency: Corporation for National and Community Service.

Title: CNCS Forbearance Request for National Service Form.

OMB Number: 3045-0030.

Agency Number: None.

Affected Public: AmeriCorps members, school staff, and lenders.

Total Respondents: 3,800.

Frequency: One per loan per term of service.

Average Time per Response: 10 minutes.

Estimated Total Burden Hours: 633 hours.

Total Burden Cost (capital/startup): None.

Total Burden Cost (operating/maintenance): None.

Comments submitted in response to this notice will be summarized and/or included in the request for Office of Management and Budget approval of the information collection request; they will also become a matter of public record.

Dated: October 18, 2012.
Maggie Taylor-Coates,
Chief Trust Operations.

[FR Doc. 2012-26293 Filed 10-24-12; 8:45 am]

BILLING CODE 6050-$$-P